DEPARTMENT OF HEALTH AND HUMAN SERVICES

National Institutes of Health

Center for Scientific Review; Amended Notice of Meeting

Notice is hereby given of a change in the meeting of the Lung Cellular, Molecular, and Immunobiology Study Section, October 7, 2013, 08:00 a.m. to October 8, 2013, 05:00 p.m., Avenue Hotel Chicago, 150 E. Huron Street, Chicago, IL 60611, which was published in the Federal Register on September 10, 2013, 78 FR 55269.

The meeting will be held at the National Institutes of Health, 6701 Rockledge Drive, Bethesda, MD 20892. The meeting will start on November 12, 2013 at 09:00 a.m. and end on November 14, 2013 at 06:00 p.m. The meeting is closed to the public.

Dated: October 29, 2013.
Melanie J. Gray,
Program Analyst, Office of Federal Advisory Committee Policy.

[FR Doc. 2013-26174 Filed 11-1-13; 8:45 am]

BILLING CODE 4140-01-P